AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503. Copies of submission may be obtained by calling (202) 712-1365.

SUPPLEMENTARY INFORMATION:

OMB Number: OMB 0412-New.

Form Number: N/A.

Title: USAID Visa Compliance System (VCS).

Type of Submission: New Information Collection.

Purpose: The U.S. Agency for International Development, under the Foreign Assistance Act of 1961, as amended, engages in a broad range of sustainable economic assistance activities that provide technical and academic training in the United States and abroad for foreign nationals. These foreign nationals have been selected for training by USAID in order to advance U.S. foreign policy objectives by supporting: Economic growth, agriculture and trade; global health; and democracy conflict prevention and humanitarian assistance. Training can consist of long-term academic degree programs, short-term technical courses, seminars, workshops, or other learning activities intended to impart certain knowledge and information.

USAID must tract training data for all foreign nationals who receive training funded by USAID. In cases where foreign nationals must travel to the U.S. to participate in training or invitational travel, the approvals for the eligibility to obtain the J visa are captured in the Visa Compliance System (VCS). The Visa Compliance system has two purposes: First, to secure a J-1 visa for these foreign nationals traveling to the US.; second, to enable USAID to be in compliance with external requirements of the Department of Homeland Security. With certain exceptions, the foreign nationals that USAID sponsors for travel to the U.S. are considered exchange visitors. The VCS provides an audit trail regarding exchange visitor, his or her training program or circumstances, as well as other relevant documentation.

Annual Reporting Burden: Respondents: 600.

Total annual responses: 8,000.

Total annual hours requested: 2,000 hours.

Dated: December 15, 2010.
Lynn P. Winston,
Acting Chief, Information and Records Division, Office of Management Services, Bureau for Management.

[FR Doc. 2010-32303 Filed 12-23-10; 8:45 am]

BILLING CODE 6116-01-M